DEPARTMENT OF LABOR

Employment and Training Administration

Notice of Determinations Regarding Eligibility To Apply for Worker Adjustment Assistance

In accordance with section 223 of the Trade Act of 1974, as amended, (19 U.S.C. 2273), the Department of Labor herein presents summaries of determinations regarding eligibility to apply for trade adjustment assistance for workers (TA-W) number and alternative trade adjustment assistance (ATAA) by (TA-W) number issued during the periods of June 2004.

In order for an affirmative determination to be made and a certification of eligibility to apply for directly-impacted (primary) worker adjustment assistance to be issued, each of the group eligibility requirements of Section 222(a) of the Act must be met.

I. Section (a) (2) (A) all of the following must be satisfied:

A. a significant number or proportion of the workers in such workers' firm, or an appropriate subdivision of the firm, have become totally or partially separated, or are threatened to become totally or partially separated;

B. the sales or production, or both, of such firm or subdivision have decreased absolutely; and

C. increased imports of articles like or directly competitive with articles produced by such firm or subdivision have contributed importantly to such workers' separation or threat of separation and to the decline in sales or production of such firm or subdivision; or

II. Section (a) (2) (B) both of the following must be satisfied:

A. a significant number or proportion of the workers in such workers' firm, or an appropriate subdivision of the firm, have become totally or partially separated, or are threatened to become totally or partially separated;

B. there has been a shift in production by such workers' firm or subdivision to a foreign county of articles like or directly competitive with articles which are produced by such firm or subdivision; and

C. One of the following must be satisfied:

1. the country to which the workers' firm has shifted production of the articles is a party to a free trade agreement with the United States;

2. the country to which the workers' firm has shifted production of the articles to a beneficiary country under the Andean Trade Preference Act, African Growth and Opportunity Act, or the Caribbean Basin Economic Recovery Act; or

3. there has been or is likely to be an increase in imports of articles that are like or directly competitive with articles which are or were produced by such firm or subdivision.

Also, in order for an affirmative determination to be made and a certification of eligibility to apply for worker adjustment assistance as an adversely affected secondary group to be issued, each of the group eligibility requirements of Section 222(b) of the Act must be met.

(1) significant number or proportion of the workers in the workers' firm or an appropriate subdivision of the firm have become totally or partially separated, or are threatened to become totally or partially separated;

(2) the workers' firm (or subdivision) is a supplier or downstream producer to a firm (or subdivision) that employed a group of workers who received a certification of eligibility to apply for trade adjustment assistance benefits and such supply or production is related to the article that was the basis for such certification; and

(3) either—

(A) the workers' firm is a supplier and the component parts it supplied for the firm (or subdivision) described in paragraph (2) accounted for at least 20 percent of the production or sales of the workers' firm; or

(B) a loss or business by the workers' firm with the firm (or subdivision) described in paragraph (2) contributed importantly to the workers' separation or threat of separation.

Negative Determinations for Worker Adjustment Assistance

In the following cases, the investigation revealed that the criteria for eligibility have not been met for the reasons specified.

The investigation revealed that criteria (a)(2)(A)(I.C.)(increased imports) and (a) (2) (B) (II.B) (No shift in production to a foreign country) have not been met.

TA-W-54,805; Plastek Industries, Inc., Plaster Management Group, Inc., Triangle Tool Company, Inc., Spectrum Molding Division, including leased workers of Career Concepts, Erie, PA

TA-W-54,766; Chicopee Iron Works, Inc., d/b/a Dearden Iron Works, Chicopee, MA

TA-W-54,553; Global Farms Enterprises, Inc., Garlic Plant, San Joaquin, CA

TA-W-54,780; Pottstown Metal Welding Company, Pottstown, PA.

TA-W-54,783; Eighth Floor Promotions, LLC, Bloomington, MN

TA-W-54,706; Kardex Systems, Inc., Marietta, OH

TA-W-54,886 & A; Geron Furniture, a subsidiary of Leggett and Platt, Carson, CA and Torrance, CA

TA-W-54,838; Swarovski North America, Ltd, USA Operations, a subsidiary of Swarovski U.S. Holding, including leased workers of Talent Tree, Cranston, RI

TA-W-54,818; EBW/APT, (Enterprise Brass Works/Advanced Polymer Technology, Inc.), a div. of Franklin Fueling Systems, a Franklin Electric Co., Inc., including leased workers of Manpower, Angola Personnel & Kelly Services, Muskegon, MI

TA-W-54,462; Steward Machine Co., Inc., Birmingham, AL

TA-W-54,776; Jefferson Mills, Inc., Pulaski, VA

TA-W-54,620; NVF Company, Fabrication Div., Wilmington, DE

TA-W-54,562; Davis Tool and Engineering, Inc., Subsidiary of Davis Industries, Inc., Detroit, MI

TA-W-54,905; Compucom Systems, Inc., employed at Weirton Steel Corp., Weirton, WV

TA-W-54,484; Cady Industries, Inc., Pearson, GA

TA-W-54,642; Smart Papers LLC, Hamilton, OH

TA-W-54,896; Phillips Plastics Corp., Multi-Shot Facility, Eau Claire, WI

TA-W-54,803; Saint Gobain Performance Plastics, Engineered Polymer Plastics, Garden Grove, CA

TA-W-54,700; Detroit Tool and Engineering, Lebanon, MO

TA-W-54,690; Siemens Dematic, Software Application/Product Engineering Department, Grand Rapids, MI

TA-W-54,635; Westside Stitching, Inc., West Wyoming, PA

TA-W-54,463; Bodycote Thermal Processing, Sturtevant, WI

The workers firm does not produce an article as required for certification under Section 222 of the Trade Act of 1974.

TA-W-54,666; TDK Electronics Corp., Anaheim, CA

TA-W-54,554; Volt Services Group, employed at Hewlet Packard Co., Atlanta, GA

TA-W-54,396; Volt Services Group, a div. of Volt Technical Resources, LLC, a wholly owned subsidiary of Volt Management Corp. and Volt Management Corp., a wholly owned subsidiary of Volt Information Sciences, Inc., leased workers at Hewlett-Packard Co. (HP), Roseville, CA

TA-W-54,924; Northlands Orthopedic and Sports Medicine Associates, P.A., Clifton, NJ

TA-W-54,873; Cylogix, Inc., a subsidiary of Keane, Inc., Moosic, PA

TA-W-54,296; Sprint/United Management Co., Plymouth, IN

TA-W-54,908; In Gear Fashions, Inc., Miami, FL

TA-W-55,022; Jantzen, Inc., a subsidiary of Perry Ellis International, Portland, OR

TA-W-54,829; Manpower, Inc., IBM Purchasing Area, Poughkeepsie, NY

TA-W-54,992; Nervewire, a/k/a/ Wipro, Newton, MA

TA-W-55,039; APAC Customer Services, Inc., Kewanee Facility, Deerfield, IL

TA-W-54,910; Earthlink, Inc., Harrisburg, PA

TA-W-54,972; CBCA Administrators, a Division of CBCA, Inc., Fort Worth, TX

TA-W-54,876; Amcor Pet Packaging, Erie, PA

TA-W-54,715; Goodrich Aviation Technical Services, Inc., Everett, WA

TA-W-54,715; Goodrich Aviation Technical Services, Inc., Everett, WA

TA-W-54,974; Tarkett, Inc., Whitehall, PA

TA-W-54,993; Biopool US, Inc. d/b/a Trinity Biotech Distribution, Allentown, PA.

TA-W-54,933; Mensha Forest Products Corp., North Bend, OR

TA-W-54,913; Travelocity.Com, LP, a subsidiary of Sabre Holdings, Finance and Fraud Department, San Antonio, TX

TA-W-54,744; Kroger Regional Accounting Service Center, Expense Department, a div. of Kroger Limited Partnership 1, Nashville, TN

TA-W-54,563; Volt Services Group, a div. of Volt Technical Resources, LLC, (a wholly owned subsidiary of Volt Management Corp), and Volt Management Corp., (a wholly owned subsidiary of Volt Information Sciences, Inc.), leased workers at Hewlett-Packard Co (HP), Houston, TX

TA-W-54,979; American Express Travel Related Services Co., Inc., United States Corporate Travel, Field Accounting Operations, Phoenix, AZ

TA-W-54,740; Weyerhaeuser Co., Timberlands Div., Aberbeen, WA

TA-W-54,865; H.E. Services Co., Universal Inspection and Sorting Div., Saginaw, MI

TA-W-54,867; Pennsylvania Resources Corporation, Call Center, Dunmore, PA

The investigation revealed that criterion (a)(2)(A)(I.A) (no employment decline) has not been met.

TA-W-55,015; Allen Systems Group, Inc., Development Department, Naples, FL

TA-W-54,589; Aqua Products, Inc., Cedar Grove, NJ

The investigation revealed that criterion (a)(2)(A)(I.A) (no employment decline) has not been met and (a)(2)(B)(II.B) (has shifted production to a county not under the free trade agreement with U.S.) have not been met.

TA-W-54,998; Gregtagmacbeth, LLC, a subdivision of Amazys Holding AG, New Windsor, NY

The investigation revealed that criteria (a)(2)(A)(I.B) (sales or production, or both, did not decline) and (a)(2)(B)(II.B) (has shifted production to a county not under the free trade agreement with U.S.) have not been met.

TA-W-54,788; Quadco, Inc., Alaska Division, Anchorage, AK

TA-W-54,857; Valley Mills, Inc., Valley Head, AL

TA-W-54,629; Motorola, Inc., Information Technology, Semiconductor Products Sector, Tempe, AZ

The investigation revealed that criteria (a)(2)(A), (a)(2)(A)(I.A) (no employment decline) and (I.B) (sales or production, or both, did not decline) have not been met.

TA-W-54,825; Utica Enterprises, Inc., 15030, 23 Mile Road, Shelby Townships, MI

TA-W-54,996; Minnesota Mold and Engineering, Vadnais Heights, MN

The investigation revealed that criteria (2) has not been met. The workers firm (or subdivision) is not a supplier or downstream producer to trade-affected companies

TA-W-54,816; Phipps Patterns, Inc., Decatur, IL

TA-W-54,943; Swainsboro Electro Plating, Inc., Swainsboro, GA

TA-W-54,636; Wyoming Wood Products, Inc., West Wyoming, PA

Affirmative Determinations for Worker Adjustment Assistance

The following certifications have been issued; the date following the company name and location of each determination references the impact date for all workers of such determination.

The following certifications have been issued. The requirements of (a) (2) (A) (increased imports) of Section 222 have been met.

TA-W-54,787; Light Artistry, Inc., Pottsville, PA: April 16, 2003.

TA-W-54,662; Altek, Inc., Tool Room, including leased workers of Volt Temporary Services and Humanix, Liberty Lake, WA: April 1, 2003.

TA-W-54,610; Watts Regulator, Brass and Tubular and Foundry Divisions, a subsidiary of Watts Industries, Inc., including leased workers of Manpower, Spindale, NC: March 17, 2003.

TA-W-54,841; Elastex, Inc., a div. of The Elastic Corporation of America, Asheboro, NC: April 30, 2003.

TA-W-54,789; Edenton Dyeing and Finishing LLC, Edenton, NC: April 22, 2003.

TA-W-55,006; Westpoint Stevens, Longview Plant, Bed Products Div., Hickory, NC: June 1, 2003.

TA-W-55,028; Goodrich Power Systems, Aurora, OH: June 22, 2004.

TA-W-54,904; Envirco Corp., Albuquerque, NM: April 27, 2003.

TA-W-54,897; Tidewater Occupational Center, Suffolk, VA: May 5, 2003.

TA-W-54,868; R & W Manufacturing, Inc., Avera, GA: May 6, 2003.

TA-W-54,859; Artistic Laces, Inc., Warwick, RI: May 4, 2003.

TA-W-54,858; Hope Valley Dyeing Corp., West Warwick, RI: May 4, 2003.

TA-W-54,809; Hot Wax Candle Co., Greensboro, NC: April 28, 2003.

TA-W-54,830; ITT Industries, New Lexington, OH: April 13, 2003.

TA-W-54,821; Burlington Industries LLC, Corporate Office, a div. of WL Ross & Co. LLC, Greensboro, NC: February 5, 2004.

TA-W-54,817; RHC/Spacemaster Corp., Melrose Park, IL: April 27, 2003.

TA-W-54,547; Ispat Inland, Inc., Information Technology Department, East Chicago, IN: March 20, 2004.

TA-W-54,920; Dekko Technologies, Inc. a/k/a Dekko Heating Technologies, Inc., Clayppool, IN: May 17, 2003.

TA-W-54,532 & A; G. Leblanc Corporation, Kenosha, WI and Martin Band Instruments, a subsidiary of G. Leblanc Corporation, Kenosha, WI: Mary 16, 2003.

TA-W-54,719; Shafer Electronics Co., Pine City, MN: April 12, 2003.

TA-W-54,915; Valenite, LLC, Gainesville, TX: May 17, 2003.

TA-W-54,843; Trent Tube, a div. of Crucible Materials Corp., Carrollton, GA: April 24, 2003.

TA-W-54,835; International Mill Service, Inc., subsidiary of Envirosource, Inc., Georgetown, SC: April 30, 2003.

TA-W-54,833; Bayer Clothing Group, Inc., Clearfield, PA: May 3, 2003.

TA-W-54,864; Cullman Apparel Manufacturing Co., Inc., Cullman, AL: May 6, 2003.

TA-W-54,956; Monarch Hosiery Mills, Inc., Administrative Office, Altamahaw, NC, A; Hold Street Finishing Plant and Distribution Center, Burlington, NC, B; Broad Street Knitting Plant, Burlington NC and C; Church Street Sales Office, Burlington, NC: May 20, 2003.

TA-W-54,781; Delta Mills, Inc., Division of Delta Woodside Industries, Inc., Estes Plant, Piedmont, SC: April 15, 2003.

TA-W-54,756; Stature Electric, Inc., a subsidiary of Owosso Corporation, Watertown, NY: April 13, 2003.

TA-W-54,738; Morrill Motors, Inc. a/k/a Morrill Electric, Inc., Sneedville, TN: April 16, 2003.

TA-W-54,516; Scalamandre Silks, Dying and Weaving Div., Long Island City, NY: March 8, 2003.

TA-W-54,863 & A; Ethan Allen, Inc., Boonville, NY and Bridgewater, VA: April 29, 2003.

TA-W-54,778; Iflex, Inc., Minnetonka, MN: April 23, 2003.

TA-W-54,568; Warnaco, Inc., Intimate Apparel Div., Pre-Production Unit, Van Nuys, CA: March 9, 2003.

TA-W-54,731; Tecumseh Compressor Co., Tupelo Div., Verona, MS: April 14, 2003.

The following certifications have been issued. The requirements of (a)(2)(B) (shift in production) of Section 222 have been met.

TA-W-54,765; Oxy-Dry Corp., Itasca Div., Itasca, IL: April 8, 2003.

TA-W-54,696; New Frontier Clothing Co., Dallas, TX: April 8, 2003.

TA-W-54,988; Doveport Systems LLC, a subsidiary of Depco International, including leased workers of Kelly Services, Port Huron, MI: May 25, 2003.

TA-W-54,890; Inamed Corporation, Santa Barbara, CA: May 4, 2003.

TA-W-54,767; International Wire Group, Inc., Insulated Wire Division, PVC Department, El Paso, TX: April 15, 2003.

TA-W-54,377; Russell Corporation, Information Services Department, Alexander City, AL: February 2, 2003.

TA-W-54,832; Sun Microsystems, Inc., Worldwide Operations Div., Sunfire Computer Subcomponents, Newark, CA: March 2, 2003.

TA-W-54,945; Amcor Plastube, Inc., Breinigsville, PA: May 17, 2003.

TA-W-54,634; American Pad and Paper LLC, Ampad Division, West Valley City, UT: March 19, 2003.

TA-W-54,925; EGS Electrical Group, Shoemakersville, PA: May 10, 2003.

TA-W-54,844; Kwikset, Bristow, OK: April 29, 2003.

TA-W-54,810 & A; Webb Furniture Enterprises, Inc., Plant #1, Galax, VA and Plant #2, Galax, VA: April 28, 2003.

TA-W-54,980; Eljer Plumbingware, Salem, OH: May 25, 2003.

TA-W-54,797; American Firelog Corp. of Ohio, Akron, OH: April 21, 2003.

TA-W-54,693; ITW Chemtronics, Kennesaw, GA: April 7, 2003.

TA-W-54,748; FMC Corporation, Agricultural Products Group, Baltimore, MD: April 19, 2003.

TA-W-54,806; Endwave Corp., Diamond Springs, CA: April 19, 2003.

TA-W-54,990; Manpower International, Inc., working at Continental Teves, Asheville, NC: May 21, 2003.

TA-W-54,958; U.S. Electrical Motors, Philadelphia, MS: June 15, 2004.

TA-W-54,953; Ruhrpumpen, Inc., Tulsa, OK: May 14, 2003.

TA-W-54,854; Kentucky Apparel, LLP, Tompkinsville, KY: April 28, 2003.

TA-W-54,862; Irwin Industrial Tool Co., a div. of Newell Rubbermaid, Wilmington, OH: May 5, 2003.

TA-W-54,877; Steele Manufacturing, a div. of Calhoun Apparel, Water Valley, MS: May 7, 2003.

TA-W-54,831; Neese Industries, Inc, Gonzales, LA: April 23, 2003.

TA-W-54,888; Cooper Power Systems, including leased workers of Adecco and Randstad, Pewaukee, WI: May 10, 2003.

TA-W-54,940; J.R. Simplot Co., Food Group Div., Hermiston, OR: April 27, 2003.

TA-W-54,601; Lear Corporation, Seating Systems Div., Auburn Hills, MI: March 15, 2003.

TA-W-54,991; Marley Cooling Technologies, Fan Blade and Grid Operations, Olathe, KS: May 26, 2003.

TA-W-55,053; Solon Manufacturing Co., a subsidiary of O.E. Mossbers and Sons, including leased workers of from Adecco, Skowhegan, ME: March 20, 2004.

TA-W-54,931; Coupled Products, Inc., a subsidiary of The Dana Corporation, Andrews, IN: May 12, 2003.

TA-W-55,005; Sara Lee Intimates & Hosiery, a subsidiary of Sara Lee Corporation, Marion, SC: May 20, 2003

TA-W-54,792; M&G Polymers USA, LLC, a wholly owned subsidiary of M & G Finanziaria Industriale, S.P.A., Apple Grove, WV: April 26, 2003.

TA-W-54,986; Matsushita Electronic Components Corporation of America, including leased workers of Staffing Solutions, a subsidiary of Matsushita Electronic Corporation of America, Knoxville, TN: May 25, 2003.

TA-W-54,853; Reliance Electric, Rockwell Automation Power Systems Div., Seattle, WA: May 5, 2003.

TA-W-54,914; Medtronic Vascular, including leased workers of Micro Tech, Danvers, MA: May 6, 2003.

TA-W-54,967; American Greetings Corp., Bardstown, KY: May 24, 2003.

TA-W-54,938; Sunrise Medical, Inc., Long Term Care Div., Stevens Point, WI: May 18, 2003.

TA-W-54,969; Brown and Williamson Tobacco Corp., a subsidiary of British American Tobacco, Chester, VA: May 20, 2003.

TA-W-54,941 & A; ACI Distribution, a subsidiary of Vitro America, Inc., Tualatin, OR and Fife, WA: May 18, 2003.

The following certification has been issued. The requirement of upstream supplier to a trade certified primary firm has been met.

TA-W-54,761; Detroit Diesel, a division of Daimlerchrysler, Detroit, MI: April 19, 2003.

TA-W-55,001; Newstech PA LP, Northampton, PA: May 19, 2003.

TA-W-54,759; Seacraft Instruments, Inc., including leased workers of Adecco, Batavia, NY: March 16, 2003.

Negative Determinations for Alternative Trade Adjustment Assistance

In order for the Division of Trade Adjustment Assistance to issue a certification of eligibility to apply for Alternative Trade Adjustment Assistance (ATAA) for older workers, the group eligibility requirements of Section 246(a)(3)(A)(ii) of the Trade Act must be met.

In the following cases, it has been determined that the requirements of Section 246(a)(3)(ii) have not been met for the reasons specified.

The Department as determined that criterion (2) of Section 246 has not been met. Workers at the firm possess skills that are easily transferable.

TA-W-54,941 &A; ACI Distribution, a subsidiary of Vitro America, Inc., Tualatin, OR and Fife, WA

TA-W-54,938; Sunrise Medical, Inc., Long Term Care Div., Stevens Point, WI

TA-W-54,969; Brown and Williamson Tobacco Corp., a subsidiary of British American Tobacco, Chester, VA

TA-W-54,967; American Greetings Corp., Bardstown, KY

TA-W-54,778; Iflex, Inc., Minnetonka, MN

TA-W-54,568; Warnaco, Inc., Intimate Apparel Div., Pre Production Unit, Van Nuys, CA

TA-W-54,731; Tecumseh Compressor Co., Tupelo Div., Verona, MS

Since the workers are denied eligibility to apply for TAA, the workers cannot be certified eligible for ATAA.

TA-W-54,463; Bodycote Thermal Processing, Sturtevant, WI

TA-W-54,629; Motorola, Inc., Information Technology, Semiconductor Products Sector, Tempe, AZ

TA-W-54,635; Westside Stitching, Inc., West Wyoming, PA

TA-W-54,636; Wyoming Wood Products, In., West Wyoming, PA

TA-W-54,690; Siemens Dematic, Software Application/Product Engineering Department, Grand Rapids, MI

TA-W-54,700; Detroit Tool and Engineering, Lebanon, MO

TA-W-54,715; Goodrich Aviation Technical Services, Inc., Everett, WA

TA-W-54,803; Saint Gobain Performance Plastics, Engineered Polymer Plastic, Garden Grove, CA

TA-W-54,896; Phillips Plastics Corporation, Multi-Shot Facility, Eau Claire, WI

TA-W-54,974; Tarkett, Inc., Whitehall, PA

TA-W-55,015; Allen Systems Group, Inc., Development Department, Naples, FL

TA-W-54,998; Gregtagmacbeth, LLC, a subdivision of Amazys Holding AG, New Windsor, NY

TA-W-54,993; Biopool US, Inc., d/b/a Trinity Biotech Distribution, Allentown, PA

TA-W-54,943; Swainsboro Electro Plating, Inc., Swainsboro, GA

TA-W-54,933; Menasha Forest Products Corp., North Bend, OR

TA-W-54,642; Smart Papers LLC, Hamilton, OH

TA-W-54,816; Phipps Patterns, Inc., Decatur, IL

TA-W-54,484; Cady Industries, Inc., Pearson, GA

TA-W-54,905; Compucom Systems, Inc., employed at Weirton Steel Corp., Weirton, WV

TA-W-54,913; Travelocity. Com, LP, a subsidiary of Sabre Holdings, Finance and Fraud Department, San Antonio, TX

TA-W-54,562; Davis Tool and Engineering, Inc., a subsidiary of Davis Industries, Inc., Detroit, MI

TA-W-54,620; NVF Company, Fabrication Division, Wilmington, DE

TA-W-54,776; Jefferson Mills, Inc., Pulaski, VA

TA-W-54,462; Steward Machine Co., Inc., Birmingham, AL

TA-W-54,818; EBW/APT, (Enterprise Brass Works/Advanced Polymer Technology, Inc.), a div. of Franklin Fueling Systems, a Franklin Electric Co., Inc., including leased workers of Manpower, Angola Personnel & Kelly Services, Muskegon, MI

TA-W-54,825; Utica Enterprises, Inc., 15030, 23 Mile Road, Shelby Townships, MI

TA-W-54,838; Swarovski North America, LTD, USA Operations, a subsidiary of Swarovski U.S. Holdings, including leased workers of Talent Tree, Cranston, RI

TA-W-54,589; Aqua Products, Inc., Cedar Grove, NJ

TA-W-54,744; Kroger Regional Accounting Service Center, Expense Department, a div. of Kroger Limited Partnership 1, Nashville, TN

TA-W-54,563; Volt Services Group, a div. of Volt Technical Resources, LLC, (a wholly owned subsidiary of Volt Management Corp.), and Volt Management Corp., (a wholly owned subsidiary of Volt Information Sciences, Inc.), leased workers at Hewlett-Packard Co (HP), Houston, TX

TA-W-54,979; American Express Travel Related Services Co., Inc., United States Corp. Travel, Field Accounting Operations, Phoenix, AZ

TA-W-54,996; Minnesota Mold and Engineering, Vadnais Heights, MN

TA-W-54,886 & A; Geron Furniture, a subsidiary of Leggett and Platt, Carson, CA and Torrance, CA

TA-W-54,706; Kardex Systems, Inc., Marietta, OH

TA-W-54,740; Weyerhaeuser Co., Timberlands Div., Aberdeen, WA

TA-W-54,865; H.E. Services Co., Universal Inspection and Sorting Division, Saginaw, MI

TA-W-54,867; Pennsylvania Resources Corp., Call Center, Dunmore, PA

Affirmative Determinations for Alternative Trade Adjustment Assistance

In order for the Division of Trade Adjustment Assistance to issue a certification of eligibility to apply for Alternative Trade Adjustment Assistance (ATAA) for older workers, the group eligibility requirements of Section 246(a)(3)(A)(ii) of the Trade Act must be met.

The following certifications have been issued; the date following the company name and location of each determination references the impact date for all workers of such determinations.

In the following cases, it has been determined that the requirements of Section 246(a)(3)(ii) have been met.

I. Whether a significant number of workers in the workers' firm are 50 years of age or older.

II. Whether the workers in the workers' firm possess skills that are not easily transferable.

III. The competitive conditions within the workers' industry (i.e., conditions within the industry are adverse).

TA-W-55,028; Goodrich Power Systems, Aurora, OH: June 22, 2004.

TA-W-54,904; Envirco Corporation, Albuquerque, NM: April 27, 2003.

TA-W-54,897; Tidewater Occupational Center, Suffolk, VA: May 5, 2003.

TA-W-54,868; R & W Manufacturing, Inc., Avera, GA: May 6, 2003.

TA-W-54,859; Artistic Laces, Inc., Warwick, RI: May 4, 2003.

TA-W-54,858; Hope Valley Dyeing Corp., West Warwick, RI: May 4, 2003.

TA-W-54,809; Hot Wax Candle Co., Greensboro, NC: April 28, 2003.

TA-W-54,830; ITT Industries, New Lexington, OH: April 12, 2003.

TA-W-54,821; Burlington Industries LLC, Corporate Office, a div. of WL Ross & Company LLC, Greensboro, NC: February 5, 2004.

TA-W-54,817; RHC/Spacemaster Corporation, Melrose Park, IL: April 27, 2003.

TA-W-54,547; Ispat Inland, Inc. Information Technology Department, East Chicago, IN: March 20, 2004.

TA-W-54,920; Dekko Technologies, Inc., a/k/a Dekko Heating Technologies, Inc., Claypool, IN: May 17, 2003.

TA-W-54,532 & A; G. Leblanc Corporation, Kenosha, WI and Martin Band Instruments, a subsidiary of G. Leblanc Corporation, Kenosha, WI: March 16, 2003.

TA-W-54,719; Shafer Electronics Co., Pine City, MN: April 12, 2003.

TA-W-54,915; Valenite, LLC, Gainesville, TX: May 17, 2003.

TA-W-54,843; Trent Tube, a div. of Crucible Materials Corp., Carrollton, GA: April 24, 2003.

TA-W-54,835; International Mill Service, Inc., subsidiary of Envireosource, Inc., Georgetown, SC: April 30, 2003.

TA-W-54,833; Bayer Clothing Group, Inc., Clearfield, PA: May 3, 2003.

TA-W-54,864; Cullman Apparel Manufacturing Co., Inc., Cullman, AL: May 6, 2003.

TA-W-54,781; Delta Mills, Inc., div. of Delta Woodside Industries, Inc., Estes Plant, Piedmont, SC: April 15, 2003.

TA-W-54,756; Stature Electric, Inc., a subsidiary of Owosso Corporation, Watertown, NY: April 13, 2003.

TA-W-54,738; Morrill Motors, Inc. a/k/a Morrill Electric, Inc., Sneedville Plant, Sneedville, TN: April 16, 2003.

TA-W-54,516; Scalamandre Silks, Dying and Weaving Div., Long Island City, NY: March 8, 2003.

TA-W-54,863 & A; Ethan Allen, Inc., Boonville, NY and Bridgewater, VA: April 29, 2003.

TA-W-54,804; Southern Glove Manufacturing Co., Inc., Cumberland Glove Div., Duffield, VA: April 19, 2003.

TA-W-55,001; Newstech PA LP, Northampton, PA: May 19, 2003.

TA-W-54,759; Seacraft Instruments, Inc., including leased workers of Adecco, Batavia, NY: March 16, 2003.

TA-W-54,925; EGS Electrical Group, Shoemakersville, PA: May 10, 2003.

TA-W-54,956; Monarch Hosiery Mills, Inc., Administrative Office, Altamahaw, NC, A; Holt Street Finishing Plant and Distribution Center, Burlington, NC, B; Broad Street Knitting Plant, Burlington, NC and C; Church Street Sales Office, Burlington, NC: May 20, 2003.

TA-W-54,810 & A; Webb Furniture Enterprises, Inc., Plant #1, Galax, VA and Plant #2, Galax, VA: April 28, 2003.

TA-W-54,980; Eljer Plumbingware, Salem, OH: May 25, 2003.

TA-W-54,797; American Firelog Corp. of Ohio, Akron, OH: April 21, 2003.

TA-W-54,693; ITW Chemtronics, Kennesaw, GA: April 7, 2003.

TA-W-54,748; FMC Corporation, Agricultural Products Group, Baltimore, MD: April 19, 2003.

TA-W-54,806; Endwave Corporation, Diamond Springs, CA: April 19, 2003.

TA-W-54,990; Manpower International, Inc., Working at Continental Teves, Asheville, NC: May 21, 2003.

TA-W-54,958; U.S. Electrical Motors, Philadelphia, MS: June 15, 2004.

TA-W-54,953; Ruhrpumpen, Inc., Tulsa, OK: May 14, 2003.

TA-W-54,854; Kentucky Apparel, LLP, Tompkinsville, KY: April 28, 2003.

TA-W-54,831; Neese Industries, Inc., Gonzales, LA: April 23, 2003.

TA-W-54,862; Irwin Industrial Tool Co., a div. of Newell Rubbermaid, Wilmington, OH: May 5, 2003.

TA-W-54,877; Steele Manufacturing, a div. of Calhoun Apparel, Water Valley, MS: May 7, 2003.

TA-W-54,888; Cooper Power Systems, including leased workers of Adecco and Randstad, Pewaukee, WI: May 10, 2003.

TA-W-54,940; J.R. Simplot Co., Food Group Div., Hermiston, OR: April 27, 2003.

TA-W-54,601; Lear Corporation, Seating Systems Div., Auburn Hills, MI: March 15, 2003.

TA-W-54,991; Marley Cooling Technologies, Fan Blade and Grid Operations, Olathe, KS: May 26, 2003.

TA-W-55,053; Solon Manufacturing Co., a subsidiary of O.E. Mossbers & Sons, including leased workers from Adecco, Skowhegan, ME: March 20, 2004.

TA-W-54,931; Coupled Products, Inc., a subsidiary of The Dana Corporation, Andrews, IN: May 12, 2003.

TA-W-55,005; Sara Lee Intimates & Hosiery, a subsidiary of Sara Lee Corp., Marion, SC: May 20, 2003.

TA-W-54,792; M&G Polymers USA, LLC, a wholly owned subsidiary of M&G Finanziaria Industriale S.P.A., Apple Grove, WV: April 26, 2003.

TA-W-54,986; Matsushita Electronic Components Corporation of America, including leased workers of Staffing Solutions, a subsidiary of Matsushita Electronic Corporation of America, Knoxville, TN: May 25, 2003.

TA-W-54,853; Reliance Electric, Rockwell Automation Power Systems Div., Seattle, WA: May 5, 2003.

TA-W-54,914; Medtronic Vascular, including leased workers of Micro Tech, Danvers, MS: May 6, 2003.

I hereby certify that the aforementioned determinations were issued during the months of June 2004. Copies of these determinations are available for inspection in Room C-5311, U.S. Department of Labor, 200 Constitution Avenue, NW., Washington, DC 20210 during normal business hours or will be mailed to persons who write to the above address.

Dated: June 29, 2004.
Timothy Sullivan,
Director, Division of Trade Adjustment Assistance.

[FR Doc. 04-15309 Filed 7-6-04; 8:45 am]

BILLING CODE 4510-30-P